DEPARTMENT OF STATE

[Public Notice: 12123]

Notice of Department of State Sanctions Actions

SUMMARY: The Secretary of State has imposed sanctions on 75 individuals and 44 entities and identified 22 vessels as blocked property.

DATES: The Secretary of State's determination and imposition of sanctions on the 75 individuals, 44 entities, and 22 vessels identified in the SUPPLEMENTARY INFORMATION section were effective on February 24, 2023.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (i) to operate or have operated in the financial service sector, the technology sector, the defense and related materiel sector or the marine sector of the Russian Federation economy, or any other sector of the Russian Federation economy as may be determined by the Secretary of the Treasury, in consultation with the Secretary of State. The Secretary of the Treasury, in consultation with the Secretary of State determined that Section 1(a)(i) of E.O. 14024 shall apply to the financial services and marine sectors of the Russian Federation economy.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (ii) to be responsible for or complicit in, or to have directly or indirectly engaged or attempted to engage in, any of the following for or on behalf of, or for the benefit of, directly or indirectly, the Government of the Russian Federation: (F) activities that undermine the peace, security, political stability, or territorial integrity of the United States, its allies, or its partners.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) to be or have been a leader, official, senior executive officer, or member of the board of directors of: (A) the Government of the Russian Federation.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) to be or have been a leader, official, senior executive officer, or member of the board of directors of: (C) an entity whose property and interests in property are blocked pursuant to this order.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iv) to be a political subdivision, agency, or instrumentality of the Government of the Russian Federation.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (v) to be a spouse or adult child of any person whose property and interests in property are blocked pursuant to subsection (a)(ii) or (iii) of this section.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (vii) to be owned or controlled by, or to have acted or purported to act for or on behalf of, directly or indirectly, the Government of the Russian Federation or any person whose property and interests in property are blocked pursuant to this order.

The Secretary of State has determined, pursuant to Section 1(a)(i) of E.O. 14024, that Limited Liability Company Citadel, Joint Stock Company Lenmorniiproekt, Open Joint Stock Company Corporation Novosibirsk Plant Elektrosignal, LLC Titan-Avangard, Igor Vladimirovich Borisov, LLC Spetsavia, Joint Stock Company Marine Arctic Geological Expedition, Federal State Unitary Enterprise Federal Center of Dual Technologies Soyuz, Limited Liability Company Astrakom, Closed Joint Stock Company RSK Technologies, Vostochnaya Verf Joint Stock Company, Joint Stock Company Votkinskiy Zavod, Joint Stock Company Eniks, Public Joint Stock Company Zavod Tula, Kazanskii Optiko-Mekhanicheskii Zavod AO, Botlikh Radio Plant Limited Liability Company, Joint Stock Company Moscow Order of the Red Banner of Labor Research Radio Engineering Institute, Limited Liability Company Antels, Closed Joint Stock Company Special Construction Bureau, Closed Joint Stock Company Norsi Trans, OOO Taimyrneftegaz-Port, Limited Liability Company Scientific and Production Company Tekhinkom, Pola Raiz OOO, and Joint Stock Company Argus Holding operate or have operated in the financial services sector, the technology sector, the defense and related materiel sector, or the marine sector of the Russian Federation economy.

The Secretary of State has determined, pursuant to Section 1(a)(ii)(F) of E.O. 14024, that Leonid Ivanovich Pasechnik, Artem Volodymyrovich Zhoga, Sparta Battalion, Natalya Leonidivna Desyatova, State Unitary Enterprise State Grain Operator, and Aleksey Aleksandrovich Kostrubitsky are responsible for or complicit in, or have directly or indirectly engaged or attempted to engage in, activities that undermine the peace, security, political stability, or territorial integrity of the United States, its allies, or its partners for or on behalf of, or for the benefit of, directly or indirectly, the Government of the Russian Federation.

The Secretary of State has determined, pursuant to Section 1(a)(iii)(A) of E.O. 14024, that Vasiliy Aleksandrovich Orlov, Aleksandr Vitalevich Tsybulskiy, Igor Yuryevich Babushkin, Aleksey Sambuyevich Tsydenov, Roman Valentinovich Kopin, Sergey Alimovich Melikov, Makhmud-Ali Maksharipovich Kalimatov, Igor Ivanovich Kobzev, Stanislav Sergeyevich Voskresenskiy, Kazbek Valeryevich Kokov, Batu Sergeyevich Khasikov, Vladislav Valeryevich Shapsha, Vladimir Viktorovich Solodov, Rashid Borispievich Temrezov, Artur Olegovich Parfenchikov, Sergey Evgenyevich Tsivilev, Mikhail Vladimirovich Degtyarev, Valentin Olegovich Konovalov, Natalya Vladimirovna Komarova, Sergey Konstantinovich Sitnikov, Veniamin Ivanovich Kondratyev, Vadim Mikhailovich Shumkov, Sergey Konstantinovich Nosov, Oleg Vladimirovich Melnichenko, Artem Alekseyevich Zdunov, Andrey Vladimirovich Chibis, Yuriy Vasilyevich Bezdudniy, Gleb Sergeyevich Nikitin, Aleksandr Leonidovich Burkov, Andrey Evgenyevich Klychkov, Dmitriy Nikolayevich Makhonin, Oleg Nikolayevich Kozhemyako, Mikhail Yuryevich Vedernikov, Valeriy Igorevich Limarenko, Oleg Leonidovich Khorokhordin, Igor Mikhaylovich Rudenya, Aleksandr Vladimirovich Brechalov, Aleksey Yurevich Russkikh, Aleksandr Mikhaylovich Osipov, Murat Karalbiyevich Kumpilov, Aleksandr Valentinovich Sokolov, Yuriy Viktorovich Zaytsev, Pavel Viktorovich Malkov, Roman Viktorovich Busargin, Vladimir Vladimirovich Mazur, Mikhail Yakovlevich Evraev, Vladislav Tovarishchtayovich Khovalyg, Nikolay Grigorevich Shulginov, Aleksandr Aleksandrovich Kozlov, Aleksey Olegovich Chekunkov, Maksut Igorevich Shadayev, Aleksandr Vyacheslavovich Kurenkov, Valeriy Nikolayevich Falkov, Olga Borisovna Lyubimova, Valentina Lvovna Kazakova, Magomedsalam Magomedaliyevich Magomedov, Yuriy Timofeyevich Averyanov, Anatoliy Vyacheslavovich Razinkin, Oleg Vasilyevich Matytsin, Anton Olegovich Kotyakov, and Tatyana Alekseyevna Golikova are or have been leaders, officials, senior executive officers, or members of the board of directors of the Government of the Russian Federation.

The Secretary of State has determined, pursuant to Section 1(a)(iii)(C) of E.O. 14024, that Nikita Petrovich Busel, Anna Borisovna Surovikina, Yuriy Mikhailovich Milekhin, Anton Andreevich Cherepennikov Sergei Anatolyevich Ovchinnikov, Alexander Aleksandrovich Moskovsky, and Alexey Borisovich Shmelev each are or have been a leader, official, senior executive officer, or member of the board of directors of an entity whose property and interests in property are blocked pursuant to E.O. 14024.

The Secretary of State has determined, pursuant to Section 1(a)(v) of E.O. 14024, that Olga Vladimirovna Skabeyeva, and Viktor Borisovich Khristenko are each a spouse or adult child of a person whose property and interests in property are blocked pursuant to subsection (a)(ii) or (a)(iii) of Section 1 of E.O. 14024.

The Secretary of State has determined, pursuant to Section 1(a)(vii) of E.O. 14024, that Limited Liability Company Osnova Lab, Limited Liability Company Malvin Systems, Limited Liability Company MFI Soft, Limited Liability Company Tekhargos, Limited Liability Company Signatek, Limited Liability Company Bastion, Limited Liability Company ADM Systems, Limited Liability Company Garda Technologies, KNS Group OOO, JSC Scientific and Production Company Kryptonit, Limited Liability Company STK, Limited Liability Company Golfesteit, Limited Liability Company Laifinvest, Joint Stock Company Argus SFK, Limited Liability Company Iskusstvo Krasoty, Limited Liability Company Rudniy, Limited Liability Company Holding Intelligent Computer Systems, and Limited Liability Company RSK Labs are owned or controlled by, or have acted or purported to act for or on behalf of, directly or indirectly, the Government of the Russian Federation or any person whose property and interests in property are blocked pursuant to E.O. 14024.

The Secretary of State has determined, pursuant to Section 1(a)(iv) of E.O. 14024, that Main Computation Center of the General Staff of the Armed Forces of the Russian Federation is a political subdivision, agency, or instrumentality of the Government of the Russian Federation.

The following vessels subject to U.S. jurisdiction are blocked:

Pola Dudinka (IMO: 9190107) (Linked to Pola Raiz OOO)

Pola Sevastiana (IMO: 9691785) (Linked to Pola Raiz OOO)

Pola Makaria (IMO: 9849423) (Linked to Pola Raiz OOO)

Pola Filofeia (IMO: 9849435) (Linked to Pola Raiz OOO)

Pola Sofia (IMO: 9849459) (Linked to Pola Raiz OOO)

Pola Feodosia (IMO: 9849461) (Linked to Pola Raiz OOO)

Pola Fiva (IMO: 9849473) (Linked to Pola Raiz OOO)

Pola Anatolia (IMO: 9851103) (Linked to Pola Raiz OOO)

Pola Anfisa (IMO: 9851115) (Linked to Pola Raiz OOO)

Pola Gali (IMO: 9851127) (Linked to Pola Raiz OOO)

Pola Harita (IMO: 9888792) (Linked to Pola Raiz OOO)

Pola Pelagia (IMO: 9888807) (Linked to Pola Raiz OOO)

Aleksandr Sokolov (IMO: 9889198) (Linked to Pola Raiz OOO)

Pola Anastasia (IMO: 9897690) (Linked to Pola Raiz OOO)

Pola Maria (IMO: 9897705) (Linked to Pola Raiz OOO)

Pola Yaroslava (IMO: 9903827) (Linked to Pola Raiz OOO)

Pola Varvara (IMO: 9903839) (Linked to Pola Raiz OOO)

Pola Agata (IMO: 9903841) (Linked to Pola Raiz OOO)

Pola Alexia (IMO: 9903853) (Linked to Pola Raiz OOO)

Pola Marina (IMO: 9903865) (Linked to Pola Raiz OOO)

Pola Miropia (IMO: 9903877) (Linked to Pola Raiz OOO)

ASTROL-1 (IMO: 9906544) (Linked to Pola Raiz OOO)

Pursuant to E.O. 14024, these persons and properties have been added to the Specially Designated Nationals and Blocked Persons List. All property and interests in property of these persons subject to U.S. jurisdiction are blocked.

Whitney Baird,
Principal Deputy Assistant Secretary, Bureau of Economic and Business Affairs, Department of State.

[FR Doc. 2023-17641 Filed 8-16-23; 8:45 am]

BILLING CODE 4710-AE-P